DEPARTMENT OF ENERGY

Federal Energy Regulatory Commission

[Docket No. EC05-9-000, et al.]

New York State Electric & Gas Corporation, et al.; Electric Rate and Corporate Filings

October 29, 2004.

The following filings have been made with the Commission. The filings are listed in ascending order within each docket classification.

1. New York State Electric & Gas Corporation and Niagara Mohawk Power Corporation, a National Grid company

[Docket No. EC05-9-000]

Take notice that on October 26, 2004, New York State Electric & Gas Corporation (NYSEG) and Niagara Mohawk Power Corporation, a National Grid company (Niagara Mohawk) jointly filed an application pursuant to section 203 of the Federal Power Act, 16 U.S.C. 824b, and part 33 of the Commission's regulations, 18 CFR part 33. NYSEG requests authorization and approval to sell to Niagara Mohawk an electrical switching substation, along with related assets located in the Town of Springfield, County of Otsego, New York, in order to avoid construction of duplicative facilities and to enable Niagara Mohawk to continue to provide reliable electric distribution service to its retail customers in its adjacent service territory.

Comment Date: 5 p.m. eastern time on November 16, 2004.

2. Meiya Hanneng Power Company Limited

[Docket No. EG05-18-000]

Take notice that on October 26, 2004, Meiya Hanneng Power Company Limited (MHP), with its principal office at 608 St. James Court, St. Denis Street, Port Louis, Mauritius, filed with the Federal Energy Regulatory Commission an application for determination of exempt wholesale generator status pursuant to part 365 of the Commission's regulations.

MHP states it is a company organized under the laws of Mauritius and will be engaged, directly or indirectly through an affiliate as defined in section 2(a)(11)(B) of the Public Utility Holding Company Act of 1935 (PUHCA), exclusively in owning, operating, or both owning and operating, a heavy fuel oil fired electric generating facility (to be converted to gas fired in 2005) with a total output of approximately 176 megawatts consisting of a combustion turbine generator, a heat recovery steam generator, a steam turbine generator and certain additional incidental facilities, located in Wuhan, Hubei province, the PRC. MHP further states that it will, through an affiliate, sell electric energy at wholesale from the facility and may engage in other incidental activities with respect thereto consistent with PUHCA.

Comment Date: 5 p.m. eastern time on November 16, 2004.

3. Central Vermont Public Service Corporation

[Docket No. ER98-2329-003]

Take notice that on October 25, 2004 Central Vermont Public Service Corporation (Central Vermont) tendered for filing its three-year updated market power analysis.

Central Vermont states that copies of the filing were served upon the public utility's jurisdictional customers, the New Hampshire Public Utilities Commission, and the Vermont Public Service Board.

Comment Date: 5 p.m. eastern time on November 15, 2004.

4. PPL Southwest Generation Holdings, LLC

[Docket No. ER01-1870-003]

Take notice that on October 25, 2004, PPL Southwest Generation Holdings, LLC (PPL Southwest Generation) submitted a supplement to the updated market power analysis filed on July 12, 2004 in Docket No. ER01-1870-002.

PPL Southwest Generation states that copies of the filing were served on parties on the official service list in the above-captioned proceeding.

Comment Date: 5 p.m. eastern time on November 15, 2004.

5. ISO New England Inc.

[Docket No. ER02-2463-004]

Take notice that on October 21, 2004, ISO New England Inc. (the ISO) submitted a compliance filing pursuant to the Commission's Order on Rehearing issued September 21, 2004 in Docket Nos. ER02-2463-002 and 003, 108 FERC ¶ 61,272.

The ISO states that copies of the filing have been served on all parties in Docket No. ER02-2463.

Comment Date: 5 p.m. eastern time on November 12, 2004.

6. PJM Interconnection, L.L.C.

[Docket Nos. ER04-539-006 and EL04-121-002]

Take notice that on October 26, 2004, PJM Interconnection, L.L.C. (PJM) submitted a compliance filing consisting of (1) the Report of the PJM Market Monitor Regarding Offer Capping of Major Transmission Constraints and (2) amendments to the PJM Open Access Transmission Tariff and the Amended and Restated Operating Agreement of PJM Interconnection, L.L.C. pursuant to the Commission's order issued August 10, 2004 in Docket Nos. ER04-539-001, ER04-539-002 and EL04-121-000.

PJM states that copies of the filing were served upon all PJM members, each State electric utility regulatory commission in the PJM region, and each person designated on the official service list compiled by the Secretary in Docket Nos. ER04-539-001, 002 and EL04-121-000.

Comment Date: 5 p.m. eastern time on November 16, 2004.

7. PacifiCorp

[Docket No. ER05-65-000]

Take notice that on October 25, 2004, PacifiCorp submitted a Notice of Cancellation of PacifiCorp's Rate Schedule No. 311 with the Department of Water Resources of the State of California. PacifiCorp requests an effective date of December 31, 2004.

PacifiCorp states that copies of the filing were served upon the Department of Water Resources of the State of California; the Washington Utilities and Transportation Commission; and the Public Utility Commission of Oregon.

Comment Date: 5 p.m. Eastern Time on November 15, 2004.

8. Walden Energy, LLC

[Docket No. ER05-66-000]

Take notice that on October 25, 2004, Walden Energy, LLC, (Walden) petitioned the Commission for acceptance of Walden Rate Schedule FERC No. 1; the granting of certain blanket approvals, including the authority to sell electricity at market-based rates; and the waiver of certain Commission regulations. Walden states that it intends to engage in wholesale electric power and energy purchases and sales as a marketer. Walden further states that it is not in the business of generating or transmitting electric power and has no affiliates.

Comment Date: 5 p.m. eastern time on November 15, 2004.

9. Metcalf Energy Center, LLC

[Docket No. ER05-67-000]

Take notice that on October 25, 2004, Metcalf Energy Center, LLC (Applicant) submitted, under section 205 of the Federal Power Act (FPA), a request for authorization to make wholesale sales of electric energy, capacity, replacement reserves, and ancillary services at market-based rates, to reassign transmission capacity, and to resell firm transmission rights. Applicant states that it will own and operate a nominal 600 megawatt natural gas-fired combined-cycle electric generation facility in San Jose, California. Applicant requests an effective date of February 1, 2005.

Comment Date: 5 p.m. eastern time on November 15, 2004.

10. Pastoria Energy Center, LLC

[Docket No. ER05-68-000]

Take notice that on October 25, 2004, Pastoria Energy Center, LLC (Applicant) tendered for filing, under section 205 of the Federal Power Act, a request for authorization to make wholesale sales of electric energy, capacity, replacement reserves, and ancillary services at market-based rates, to reassign transmission capacity, and to resell firm transmission rights. Applicant states that it will own and operate a 750 megawatt natural gas-fired, combined-cycle electric generating facility located in Kern County, California.

Comment Date: 5 p.m. eastern time on November 15, 2004.

11. Boston Edison Company

[Docket No. ER05-69-000]

Take notice that on October 25, 2004 Boston Edison Company, (Boston Edison) tendered for filing modifications to its Open Access Transmission Tariff, FERC Electric Tariff Second Revised Volume No. 8 (Tariff 8) to provide, inter alia, for the inclusion of 50 percent of construction work in progress (CWIP) in rate base; for allocation of FERC Assessments, and for the reassignment of the Intangible Plant Account to the transmission function. Boston Edison requests an effective date of January 1, 2005.

Boston Edison states that copies of the filing were served upon the public utility's jurisdictional customers, and the Massachusetts Department of Telecommunications and Energy.

Comment Date: 5 p.m. eastern time on November 15, 2004.

12. Idaho Power Company

[Docket No. ER05-70-000]

Take notice that on October 25, 2004, Idaho Power Company (Idaho Power) tendered for filing an Agreement for Load Following Services between NorthWestern Corporation, doing business as NorthWestern Energy (NWE), and Idaho Power, dated August 25, 2004. Idaho requests an effective date of January 1, 2005.

Idaho Power states that copies of the filing were served upon the Idaho Public Utilities Commission, Montana Public Service Commission, and Oregon Public Utility Commission.

Comment Date: 5 p.m. eastern time on November 15, 2004.

13. Sirius Investment Management, Inc.

[Docket No. ER05-71-000]

Take notice that on October 26, 2004, Sirius Investment Management, Inc. (Sirius) petitioned the Commission for acceptance of Sirius Rate Schedule FERC No. 1; the granting of certain blanket approvals, including the authority to sell electricity at market-based rates; and the waiver of certain Commission regulations. Sirius states that it intends to engage in wholesale electric power and energy purchases and sales as a marketer. Sirius further states that it is not in the business of generating or transmitting electric power.

Comment Date: 5 p.m. eastern time on November 16, 2004.

14. Michigan Electric Transmission Company, LLC

[Docket No. ER05-72-000]

Take notice that on October 26, 2004, Michigan Electric Transmission Company, LLC (METC) submitted an Interconnection Facilities Agreement between the Wolverine Power Supply Cooperative, Inc. (Wolverine) and METC, intended to replace an existing Interconnection Facilities Agreement dated September 1, 1981 and permit Wolverine to interconnect a new substation with METC's transmission system. METC requests an effective date of October 22, 2004.

METC states that a copy of this filing has been served upon Wolverine.

Comment Date: 5 p.m. eastern time on November 16, 2004.

15. Wisconsin Public Service Corporation

[Docket No. ER05-73-000]

Take notice that on October 26, 2004, Wisconsin Public Service Corporation (WPS) tendered for filing three revised sheets (Revised Sheets) to its Control Area Operations Coordination Agreement (Coordination Agreement) between WPS and Wisconsin Electric Power Company (WEPCo), designated as WPS' First Revised Rate Schedule FERC No. 63 (WPS Agreement), reflecting an amendment to Exhibit 1 to the WPS Agreement.

WPS states that copies of the filing were served upon WEPCo, the Public Service Commission of Wisconsin and the Michigan Public Service Commission.

Comment Date: 5 p.m. eastern time on November 16, 2004.

16. Virginia Electric and Power Company

[Docket No. ER05-74-000]

Take notice that on October 26, 2004, Virginia Electric and Power Company (Dominion Virginia Power) tendered for filing an unexecuted Standard Large Generator Interconnection Agreement (LGIA) with Five Forks Energy Associates, LLC. Dominion Virginia Power requests an effective date of October 27, 2004.

Dominion Virginia Power states that copies of the filing were served upon Five Forks and the Virginia State Corporation Commission.

Comment Date: 5 p.m. eastern time on November 16, 2004.

17. The Dayton Power & Light Company

[Docket No. ER05-77-000]

Take notice that on October 27, 2004, The Dayton Power & Light Company (DP&L) submitted for filing two interconnection agreements, which DP&L now proposes to redesignate as service agreements under the Open Access Transmission Tariff (OATT) of PJM Interconnection, L.L.C. (PJM) DP&L states that it has integrated into PJM as of October 1, 2004 and accordingly, DP&L's OATT and its interconnection agreement under that OATT was cancelled as of that date. DP&L requests an effective date of October 1, 2004.

DP&L states that a copy of this filing has been served on the affected State regulatory body, the counterparties to the interconnection agreements, and PJM.

Comment Date: 5 p.m. eastern time on November 17, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “e-Subscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3040 Filed 11-5-04; 8:45 am]

BILLING CODE 6717-01-P